SECURITIES AND EXCHANGE COMMISSION

Agency Meeting

FEDERAL REGISTER CITATION OF PREVIOUS ANNOUNCEMENT: [to be published].

Status: Closed meeting.

Place: 450 Fifth Street, NW., Washington, DC.

Date Previously Announced: [to be published].

Change in the Meeting: Additional Items.

The following items will be added to the closed meeting scheduled for Thursday, August 30, 2001, at 10 a.m.:

Formal Orders of Investigations

Commissioner Hunt, as duty officer, determined that Commission business required the above change and that no earlier notice thereof was possible.

At times, changes in Commission priorities require alterations in the scheduling of meeting items. For further information and to ascertain what, if any, matters have been added, deleted or postponed, please contact:

The Office of the Secretary (202) 942-7070.

Dated: August 23, 2001.
Jonathan G. Katz,
Secretary.

[FR Doc. 01-21860 Filed 8-24-01; 3:59 pm]

BILLING CODE 8010-01-M